DEPARTMENT OF AGRICULTURE

Rural Utilities Service

7 CFR Part 1779

Rural Housing Service

7 CFR Part 3575

Rural Business—Cooperative Service

Rural Utilities Service

7 CFR Parts 4279 and 4280

Rural Business—Cooperative Service

Rural Housing Service

Rural Utilities Service

7 CFR Part 5001

[FR Doc. E9-4839]

RIN 0570-AA65

Rural Development Guaranteed Loans

AGENCIES: Rural Business—Cooperative Service, Rural Housing Service, Rural Utilities Service, USDA.

ACTION: Interim rule; delay of the effective date.

SUMMARY: Rural Development is delaying the effective date of the interim rule for Rural Development Guaranteed Loans, which was published on December 17, 2008, to October 1, 2009. The interim rule establishes a unified guaranteed loan platform for the enhanced delivery of four existing Rural Development guaranteed loan programs: Community Facilities; Water and Waste Disposal; Business and Industry; and Rural Energy for America Program, formerly known as Renewable Energy Systems and Energy Efficiency Improvement Program.

DATES: The effective date of the interim rule, which published on December 17, 2008 [73 FR 76698], delayed until February 17, 2009, [74 FR 2823], delayed until March 9, 2009 [74 FR 7179], delayed until June 1, 2009 [74 FR 9759], is further delayed until October 1, 2009.

FOR FURTHER INFORMATION CONTACT: Mr. Rick Bonnet, Rural Development, Business and Cooperative Programs, U.S. Department of Agriculture, 1400 Independence Avenue, SW., Stop 3201, Washington, DC 20250-3201; e-mail: Rick.Bonnet@wdc.usda.gov; telephone (202) 720-1804.

SUPPLEMENTARY INFORMATION: On January 16, 2009 [74 FR 2823], Rural Development delayed the original effective date of the interim rule from January 16, 2009, to February 17, 2009, because there was insufficient time to correct a technical error in the interim rule before the interim rule became effective on January 16, 2009.

Subsequently, Rural Development again delayed the effective date from February 17, 2009, to March 9, 2009 [74 FR 7179, February 13, 2009] soliciting public comments to delay the effective date to June 1, 2009. The effective date was further delayed from March 9, 2009 to June 1, 2009 [74 FR 9759, March 6, 2009]. As stated in the February 13, 2009, Federal Register, Rural Development had identified several administrative actions, including providing the best guidance to its field staff to ensure the successful implementation of the interim rule.

As noted in the February 13, 2009, Federal Register, Rural Development changed the effective date, as is provided for under the Administrative Procedures Act (5 U.S.C. 553(b)(3)(B)), because:

1. Implementing the interim rule on February 17, 2009, would have created substantial legal and operational risks to the affected programs because the rule contains certain flaws that must be corrected and would not have provided the Agency sufficient time to properly train field staff and make changes to information technology systems critical to the implementation of these programs. These actions could not have been completed by February 17, 2009.

2. The two week extension would allow the public a reasonable opportunity to comment on this proposed extension of the effective date to June 1, 2009, and the Agency to consider such comments before making the decision to make such extension.

3. Extending the effective date to June 1, 2009, allowed the Agency to finish the 60-day review described in the January 20, 2009, memo from the Assistant to the President and Chief of Staff, entitled “Regulatory Review.”

As noted in the March 6, 2009, Federal Register, the Agency received three comments on the extension of the effective date of the interim rule to June 1, 2009. None of the commenters suggested that the interim rule become effective prior to June 1, 2009, with one of the commenters suggesting that “the regulation be delayed as long as possible,” noting that “implementation during the processing of the President's stimulus package will impose burdens on both lenders and USDA staff.” The Agency, in a separate action, is implementing new provisions for the business and industry guaranteed loan program as a result of the American Recovery and Reinvestment Act of 2009. Extending the effective date to October 1, 2009, would coincide with the beginning of a new Federal Fiscal Year, thereby providing program continuity. Further, consideration of the comments the Agency received on the implementation of the interim rule has taken longer than anticipated. Finally, the Agency became aware during a January 2009 meeting with Agency field staff, which was followed by a meeting with several lenders, that additional time is required to both familiarize Agency staff with the new rule and to provide additional training to both Agency staff and lenders. For these reasons, the Agency is extending the effective date until October 1, 2009.

Dated: May 22, 2009.
William F. Hagy III,
Acting Under Secretary, Rural Development.

[FR Doc. E9-12560 Filed 5-28-09; 8:45 am]

BILLING CODE 3410-XY-P